NATIONAL AERONAUTICS AND SPACE ADMINISTRATION

[Notice: (19-063)]

NASA Advisory Council; STEM Engagement Committee; Meeting

AGENCY: National Aeronautics and Space Administration.

ACTION: Notice of meeting.

SUMMARY: In accordance with the Federal Advisory Committee Act, as amended, the National Aeronautics and Space Administration announces a meeting of the Science, Technology, Engineering and Mathematics (STEM) Engagement Committee of the NASA Advisory Council (NAC). This Committee reports to the NAC.

DATES: Tuesday, October 29, 2019, 12:00 noon-4:30 p.m., Eastern Time.

ADDRESSES: Virtual meeting by dial-in teleconference and WebEx only.

FOR FURTHER INFORMATION CONTACT: Dr. Beverly Girten, Designated Federal Officer, NAC STEM Engagement Committee, NASA Headquarters, Washington, DC 20546, (202) 358-0212, or beverly.e.girten@nasa.gov.

SUPPLEMENTARY INFORMATION: This meeting will be virtual and will be available telephonically and by WebEx only. You must use a touch tone phone to participate in this meeting. Any interested person may dial the toll-free access number 1-844-467-6272 or toll access number 1-720-259-6462, and then the numeric participant passcode: 423307 followed by the # sign. To join via WebEx, the link is: https://nasaenterprise.webex.com/ and the meeting number is 909 555 674 and the password is NACStem#29 (Password is case sensitive.) NOTE: If dialing in, please “mute” your telephone. The agenda for the meeting will include the following:

—Opening Remarks by Chair

—STEM Engagement Update

—National STEM Activities

—Report on Sparking Interest in STEM

—Findings and Recommendations to the NASA Advisory Council

—Other Related Topics

It is imperative that the meeting be held on this date to accommodate the scheduling priorities of the key participants.

Patricia Rausch,
Advisory Committee Management Officer, National Aeronautics and Space Administration.

[FR Doc. 2019-22232 Filed 10-10-19; 8:45 am]

BILLING CODE 7510-13-P